DEPARTMENT OF DEFENSE

Office of the Secretary

Defense Advisory Committee for the Prevention of Sexual Misconduct; Notice of Federal Advisory Committee Meeting

AGENCY: Under Secretary of Defense for Personnel and Readiness, Department of Defense (DoD).

ACTION: Notice of Federal advisory committee meeting.

SUMMARY: The DoD is publishing this notice to announce that the following Federal Advisory Committee meeting of the Defense Advisory Committee for the Prevention of Sexual Misconduct (DAC-PSM) will take place.

DATES: DAC-PSM will hold a meeting open to the public on Thursday, June 27, 2024, from 9 a.m. to 4 p.m. (EST).

ADDRESSES: The meeting may be accessed by videoconference. Information for accessing the videoconference will be provided after registering. (Pre-meeting registration is required. See guidance in SUPPLEMENTARY INFORMATION, “Meeting Accessibility”.)

FOR FURTHER INFORMATION CONTACT: Dr. Suzanne Holroyd, Designated Federal Officer (DFO), (571) 372-2652 (voice), osd.mc-alex.ousd-p-r.mbx.DAC-PSM@mail.mil (email). Website: www.sapr.mil/DAC-PSM. The most up-to-date changes to the meeting agenda can be found on the website.

SUPPLEMENTARY INFORMATION: This meeting is being held under the provisions of chapter 10 of title 5, United States Code (U.S.C.) (commonly known as the “Federal Advisory Committee Act” or “FACA”), title 5, U.S.C., 552b (commonly known as the “Government in the Sunshine Act”), and title 41, Code of Federal Regulations (CFR), section 102-3.140 and section 102-3.150.

Availability of Materials for the Meeting: Additional information, including the agenda or any updates to the agenda, is available on the DAC-PSM website (www.sapr.mil/DAC-PSM). Materials presented in the meeting may also be obtained on the DAC-PSM website.

Purpose of the Meeting: The purpose of the meeting is for the DAC-PSM to receive briefings and have discussions on topics related to the prevention of sexual misconduct within the Armed Forces of the United States.

Agenda: Thursday, June 27, 2024, from 9:00 a.m. to 4:00 p.m. (EST)—9:00 a.m. Meeting Open (Roll Call and Opening Remarks); 9:15 a.m. Brief: SAPRO Annual Reports; 10:15 a.m. Brief: Coast Guard Reports; 11:00 a.m. Brief: DoD Prevention Updates; 1:00 p.m. Brief: Database Anonymity; 1:30 p.m. Brief: Exit Interviews; 2:15 p.m. Subcommittee Updates; 3:45 p.m. Meeting Close (Closing Remarks).

Meeting Accessibility: Pursuant to 5 U.S.C. 552b, and 41 CFR 102-3.140 through 102-3.165, this meeting is open to the public from 9:00 a.m. to 4:00 p.m. (EST) on Thursday, June 27, 2024. The meeting will be held by videoconference. All members of the public who wish to attend must register by contacting DAC-PSM at osd.mc-alex.ousd-p-r.mbx.DAC-PSM@mail.mil or by contacting Dr. Suzanne Holroyd at (571) 372-2652 no later than Friday, June 21, 2024 (by 5:00 p.m. EST). Once registered, the web address and/or audio number will be provided.

Special Accommodations: Individuals requiring special accommodations to access the public meeting should contact Dr. Suzanne Holroyd at osd.mc-alex.ousd-p-r.mbx.DAC-PSM@mail.mil or (571) 372-2652 no later than Friday, June 21, 2024 (by 5:00 p.m. EST) so that appropriate arrangements can be made.

Written Statements: Pursuant to 41 CFR 102-3.105(j) and section 10(a)(3) of the FACA, the public and interested persons may submit a written statement to the DAC-PSM. Individuals submitting a statement must submit their statement no later than 5 p.m. EST, Friday, June 21, 2024 to Dr. Suzanne Holroyd at (571) 372-2652 (voice) or to osd.mc-alex.ousd-p-r.mbx.DAC-PSM@mail.mil (email). If a statement pertaining to a specific topic being discussed at the planned meeting is not received by Friday, June 21, 2024, then it may not be provided to, or considered by, the DAC-PSM during the June 27, 2024, meeting. The DFO will review all timely submissions with the DAC-PSM Chair and ensure such submissions are provided to the members of the DAC-PSM before the meeting. Any comments received by the DAC-PSM will be posted on the DAC-PSM website (www.sapr.mil/DAC-PSM).

Dated: June 2, 2024.
Aaron T. Siegel,
Alternate OSD Federal Register Liaison Officer, Department of Defense.

[FR Doc. 2024-12379 Filed 6-5-24; 8:45 am]

BILLING CODE 6001-FR-P